DEPARTMENT OF HOMELAND SECURITY

Coast Guard

33 CFR Part 165

[Docket No. USCG-2013-0020]

Safety Zone; Chicago to Mackinac Race; Lake Michigan; Chicago, IL

AGENCY: Coast Guard, DHS.

ACTION: Notice of enforcement of regulation.

SUMMARY: The Coast Guard will enforce the safety zone on Lake Michigan near Chicago, Illinois for the 105th Race to Mackinac. This zone will be enforced from 2 p.m. until 4:30 p.m. on July 12, and from 9 a.m. until 3 p.m. on July 13, 2013. This action is necessary and intended to ensure safety of life on the navigable waters during the 105th Race to Mackinac. During the aforementioned periods, the Coast Guard will enforce restrictions upon, and control movement of, vessels in the safety zone. No person or vessel may enter the safety zone while it is being enforced without permission of the Captain of the Port, Lake Michigan.

DATES: The safety zone in 33 CFR 165.929(a)(77) will be enforced from 2 p.m. until 4:30 p.m. on July 12, and from 9 a.m. until 3 p.m. on July 13, 2013.

FOR FURTHER INFORMATION CONTACT: If you have questions on this notice, call or email MST1 Joseph McCollum, Prevention Department, Coast Guard Sector Lake Michigan, Milwaukee, WI at (414) 747-7148, email joseph.p.mccollum@uscg.mil.

SUPPLEMENTARY INFORMATION: The Coast Guard will enforce the safety zone listed in 33 CFR 165.929(a)(77) as well as the general regulations in 33 CFR 165.929, Safety Zones; Annual events requiring safety zones in the Captain of the Port Lake Michigan zone, for the 105th Race to Mackinac. This zone will be enforced from 2 p.m. until 4:30 p.m. on July 12, and from 9 a.m. until 3 p.m. on July 13, 2013.

All vessels must obtain permission from the Captain of the Port, Lake Michigan, or the on-scene representative to enter, move within, or exit a safety zone. Vessels and persons granted permission to enter the safety zone shall obey all lawful orders or directions of the Captain of the Port, Lake Michigan, or a designated representative. Vessels that wish to transit through the safety zones may request permission from the Captain of the Port Lake Michigan. Requests must be made in advance and approved by the Captain of the Port before transits will be authorized. Approvals will be granted on a case by case basis.

This notice is issued under authority of 33 CFR 165.929(a)(77), Safety Zones; Annual events requiring safety zones in the Captain of the Port Lake Michigan zone and 5 U.S.C. 552(a). In addition to this notice in the Federal Register, the Coast Guard will provide the maritime community with advance notification of this event via Broadcast Notice to Mariners or Local Notice to Mariners that the regulation is in effect. The Captain of the Port, Lake Michigan, or his or her on-scene representative may be contacted via Channel 16, VHF-FM.

Dated: June 6, 2013.
M.W. Sibley,
Captain, U.S. Coast Guard, Captain of the Port, Lake Michigan.

[FR Doc. 2013-15161 Filed 6-24-13; 8:45 am]

BILLING CODE 9110-04-P